NATIONAL CREDIT UNION ADMINISTRATION

Notice of Meeting

Time and Date: 10 a.m., Thursday, March 16, 2006.

Place: Board Room, 7th Floor, Room 7047, 1775 Duke Street, Alexandria, VA 22314-3428.

Status: Open.

Matters To Be Considered:

1. Requests form two (2) Federal Credit Unions to Convert to Community Charters.

2. NCUA's Annual Performance Budget 2006.

3. NCUA's Strategic Plan 2006-2011.

4. Interim Final Rule and Request for Comments: Part 745 of NCUA's Rules and Regulations, Share Insurance Coverage.

For Further Information Contact: Mary Rupp, Secretary of the Board, Telephone: 703-518-6304.

Paul M. Peterson
Acting Secretary of the Board.

[FR Doc. 06-2456 Filed 3-9-06; 3:42 pm]

BILLING CODE 7535-01-M